COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add products and services to the Procurement List that will be furnished by nonprofit agencies employing persons who are blind or have other severe disabilities, and deletes products previously furnished by such agencies.

DATES: Comments must be received on or before: April 1, 2018.

ADDRESSES: Committee for Purchase From People Who Are Blind or Severely Disabled, 1401 S Clark Street, Suite 715, Arlington, Virginia 22202-4149.

FOR FURTHER INFORMATION CONTACT: For further information or to submit comments contact: Amy B. Jensen, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Addition

If the Committee approves the proposed additions, the entities of the Federal Government identified in this notice will be required to procure the products and services listed below from nonprofit agencies employing persons who are blind or have other severe disabilities.

The following products and services are proposed for addition to the Procurement List for production by the nonprofit agencies listed:

Products

NSN(s)—Product Name(s):

7045-00-NIB-0012—Pack, Power, Portable, 12000mAh, Black

7045-00-NIB-0013—Pack, Power, Portable, 6000mAh, Black

Mandatory Source of Supply: North Central Sight Services, Inc., Williamsport, PA

Contracting Activity: General Services Administration, New York, NY

Distribution: A-List

Services

Service Type: Records Management Service

Mandatory for: US Navy, Military Sealift Command, Naval Station Norfolk, 471 East C Street, Norfolk, VA

Mandatory Source of Supply: VersAbility Resources, Inc., Hampton, VA

Contracting Activity: Dept of the Navy, MSC NORFOLK,

Service Type: Base Supply Center

Mandatory for: US Army, Picatinny Arsenal, Phipps Road, Picatinny Arsenal, NJ

Mandatory Source of Supply: Central Association for the Blind & Visually Impaired, Utica, NY

Contracting Activity: Dept of the Army, W6QK ACC-PICA

Deletions

The following products are proposed for deletion from the Procurement List:

Products

NSN(s)—Product Name(s):

8440-00-160-6843—Scarf, Air Force, Men's, Gray

8440-00-823-7520—Scarf, Air Force, Men's, Olive Green

8440-01-005-2558—Scarf, Air Force, Men's, Blue

8440-01-523-5765—Scarf, Air Force, Men's, Black

Mandatory Source of Supply: ASPIRO, Inc., Green Bay, WI

Contracting Activity: Defense Logistics Agency Troop Support

NSN(s)—Product Name(s):

6530-00-290-8292—Urinal, Incontinent

6530-00-NIB-0061—Catheter, External, Male, Self-Adhering, Pop-on

6530-00-NIB-0062—Catheter, External, Male, Self-Adhering, Pop-on

6530-00-NIB-0063—Catheter, External, Male, Self-Adhering, Pop-on

6530-00-NIB-0064—Catheter, External, Male, Self-Adhering, Pop-on

6530-00-NIB-0065—Catheter, External, Male, Self-Adhering, Pop-on

Mandatory Source of Supply: The Lighthouse for the Blind, St. Louis,

Contracting Activity: Department of Veterans Affairs, Strategic Acquisition Center

NSN(s)—Product Name(s):

7520-01-483-8900—Paper Cutter, Rotary, Wood Base, Gray, 28.5″ Cutting Length

7520-01-483-8901—Paper Cutter, Rotary, Wood Base, Gray, 37.5″ Cutting Length

7520-01-483-8902—Paper Cutter, Rotary, Metal Base, Gray, 18″ Cutting Length

7520-01-483-8904—Paper Cutter, Rotary, Metal Base, Blue, 12″ Cutting Length

Mandatory Source of Supply: The Lighthouse for the Blind, Inc. (Seattle Lighthouse), Seattle, WA

Contracting Activity: General Services Administration, New York, NY

NSN(s)—Product Name(s): 8475-01-142-5648—Nape Strap

Mandatory Source of Supply: Cambria County Association for the Blind and Handicapped, Johnstown, PA

Contracting Activity: Defense Logistics Agency Troop Support

Amy B. Jensen,
Director, Business Operations.

[FR Doc. 2018-04318 Filed 3-1-18; 8:45 am]

BILLING CODE 6353-01-P